DEPARTMENT OF THE INTERIOR

Bureau of Land Management

[CA-650-02-1220-JG-064B]

The Interim Closure to Motorized Vehicle Use of Selected Routes Within the Western Rand Mountains Area of Critical Environmental Concern

AGENCY: Bureau of Land Management, United States Department of the Interior.

ACTION: Temporary closure to motorized vehicle use of BLM routes R5, R50, R40, R15, R25, R35, R37, R12 and R48, and all other unauthorized routes and trails, within the Western Rand Mountains ACEC in Kern County, California.

EFFECTIVE DATE: This closure is effective March 29, 2002 and will remain in effect until a Record of Decision is signed on the West Mojave Plan, which is expected to be signed by June 2003.

FOR FURTHER INFORMATION CONTACT: Field Office Manager, Bureau of Land Management, Ridgecrest Field Office, 300 South Richmond Road, Ridgecrest CA 93555, (760) 384-5405. The closure is posted in the Ridgecrest Field Office and at places near and/or within the area to which the closure applies. Maps identifying the affected areas are available at the Ridgecrest Field Office as well as on the Bureau of Land Management (BLM) California website at www.ca.blm.gov.

SUPPLEMENTARY INFORMATION: This temporary closure is implemented pursuant to 43 CFR 8341.2 (Special rules governing the use of off highway vehicles on public lands). The closure was approved on March 29, 2002 and will remain in effect until a Record of Decision is signed on the West Mojave Plan, which is expected to be signed by June 2003. The ACEC will remain open for all other non-motorized uses currently allowed under 43 CFR. Maps showing the affected area are available by contacting the Ridgecrest Field Office. All designated routes entering the ACEC will be posted with public notices and standard motorized vehicle closure signs. Management fences and/or barriers will be installed at key access points to block entry by motorized vehicles.

This closure order is issued to provide for the protection of the desert tortoise and desert tortoise critical habitat within the Western Rand Mountains ACEC. This interim closure was made necessary by the high incidence of noncompliance exhibited by public land visitors willfully operating off highway vehicles on closed routes and traveling cross country within the ACEC. Recent surveys show that over 90% of the closed routes in the ACEC are being ridden regularly by visitors operating off highway vehicles. Visitor compliance with the designated route system is essential to protect the desert tortoise, a species listed as threatened under the Endangered Species Act.

Exemptions to this closure include vehicles conducting official government business which shall be allowed on closed routes and areas as authorized. Official government business may include public service emergencies, resource monitoring/research, and management activities, and other actions authorized by BLM's Ridgecrest Field Office Manager.

Authority: 43 CFR subparts 8341.2 (Special rules) and 8364.1 (Closure and restriction orders). Any person who violates this closure order may be subject to a fine, not to exceed $1,000 and/or imprisonment not to exceed 12 months.

Dated: March 21, 2002.
Hector A. Villalobos,
Field Office Manager.

Closure Order

Notice is hereby given that effective March 29, 2002, BLM Routes R5, R50, R40, R15, R25, R35, R37, R12, and R48, and all other unauthorized routes and trails, in the Western Rand Mountain Area of Critical Environmental Concern (ACEC) are closed to all motorized vehicle use. No person may use, drive, transport, park, let stand, or have charge or control over any motorized vehicle in the area located within the closure signs.

This closure order is issued to provide for the protection of the desert tortoise and desert tortoise critical habitat within the Western Rand Mountains ACEC. This interim closure was made necessary by the high incidence of noncompliance exhibited by visitors willfully operating off highway vehicles on closed routes and traveling cross country within the ACEC. Recent surveys show that over 90% of the closed routes in the ACEC are being ridden regularly. Visitor compliance with the designated route system is essential to protect the desert tortoise, a species listed as threatened under the Endangered Species Act. The ACEC will remain open for all other non-motorized uses currently allowed under 43 CFR.

The authority for this closure is found in 43 CFR Subparts 8341.2 (Special rules) and 8364.1 (Closure and restriction orders). Any person who violates this closure order may be subject to a fine, not to exceed $1,000 and/or imprisonment not to exceed 12 months.

Exemptions to this closure include vehicles conducting official government business which shall be allowed on closed routes and areas as authorized. Official government business may include public service emergencies, resource monitoring/research, and management activities, and other actions authorized by BLM's Ridgecrest Field Office Manager.

The closure will remain in effect until rescinded by the Ridgecrest Field Office Manager.

Dated: March 29, 2002.

Hector A. Villalobos,

Ridgecrest Field Office Manager.

[FR Doc. 02-12587 Filed 5-17-02; 8:45 am]

BILLING CODE 4310-33-P